ENVIRONMENTAL PROTECTION AGENCY

[FRL-12549-01-R6]

Clean Air Act Operating Permit Program; Petition for Objection to State Operating Permit for Shell Chemical LP, Harris County, Texas

AGENCY: Environmental Protection Agency (EPA).

ACTION: Notice of final order on petition.

SUMMARY: The Environmental Protection Agency (EPA) Administrator signed an Order dated December 19, 2024, denying a petition dated June 11, 2024, from Air Alliance Houston (the Petitioner). The petition requested that the EPA object to a Clean Air Act (CAA) title V operating permit issued by the Texas Commission on Environmental Quality (TCEQ) to Shell Chemical LP, for its Deer Park Chemical Plant located in Harris County, Texas. In addition, and as a part of the Order, the EPA Administrator found that cause exists to reopen the Shell Chemical Deer Park Chemical Plant permit pursuant to 40 CFR part 70.7.

FOR FURTHER INFORMATION CONTACT: Jonathan Ehrhart, EPA Region 6 Office, Air Permits Section, (214) 665-2295, ehrhart.jonathan@epa.gov. The final order and petition are available electronically at: https://www.epa.gov/title-v-operating-permits/title-v-petition-database.

SUPPLEMENTARY INFORMATION: The EPA received a petition from Air Alliance Houston dated June 11, 2024, requesting that the EPA object to the issuance of operating permit no. O1668, issued by TCEQ to Shell Chemical LP, for its Deer Park Chemical Plant located in Harris County, Texas. On December 19, 2024, the EPA Administrator issued an order denying the petition while concurrently making a finding that cause exists to reopen the Shell Chemical Deer Park Chemical Plant permit under 40 CFR 70.7. The order itself explains the basis for the EPA's decision.

Sections 307(b) and 505(b)(2) of the CAA provide that a petitioner may request judicial review of those portions of an order that deny issues in a petition. Any petition for review shall be filed in the United States Court of Appeals for the appropriate circuit no later than March 24, 2025.

Dated: January 14, 2025.
James McDonald,
Director, Air and Radiation Division, Region 6.

[FR Doc. 2025-01352 Filed 1-17-25; 8:45 am]

BILLING CODE 6560-50-P